DEPARTMENT OF LABOR

Occupational Safety and Health Administration

29 CFR Part 1926

[Docket ID-OSHA-2007-0066]

RIN 1218-AC01

Cranes and Derricks in Construction

AGENCY: Occupational Safety and Health Administration (OSHA), Labor.

ACTION: Notice of Proposed Rulemaking; extension of written comment period.

SUMMARY: On October 9, 2008, OSHA published a Notice of Proposed Rulemaking (NPRM) titled “Cranes and Derricks in Construction.” The period for submitting written comments is being extended 45 days to allow parties affected by the rule more time to review the proposed rule and collect information and data necessary for comments.

DATES: Comments must be submitted (postmarked or sent) by January 22, 2009.

ADDRESSES: You may submit written comments, identified by Docket No. OSHA-2007-0066, by any of the following methods:

Electronically: You may submit comments and attachments electronically at http://www.regulations.gov, which is the Federal eRulemaking Portal. Follow the instructions online for making electronic submissions.

Fax: If your comments, including attachments, do not exceed 10 pages, you may fax them to the OSHA Docket Office at (202) 693-1648.

Mail, hand delivery, express mail, messenger or courier service: You must submit three copies of your comments and attachments to the OSHA Docket Office, Docket No. OSHA-2007-0066 or RIN No. 1218-AC01, Technical Data Center, U.S. Department of Labor, Room N-2625, 200 Constitution Avenue, NW., Washington, DC 20210; telephone (202) 693-2350 (OSHA's TTY number is (877) 889-5627). Please contact the OSHA Docket Office for information about security procedures concerning delivery of materials by express delivery, hand delivery, and messenger service. Deliveries (hand, express mail, messenger and courier service) are accepted during the Department of Labor's and Docket Office's normal business hours, 8:15 a.m.-4:45 p.m., e.t.

Instructions: All submissions must include the Agency name and the docket number for this rulemaking (Docket No. OSHA-2007-0066). All comments, including any personal information you provide, are placed in the public docket without change and may be made available online at http://www.regulations.gov. Therefore, OSHA cautions you about submitting personal information such as social security numbers and birthdates. For further information on submitting comments, plus additional information on the rulemaking process, see the SUPPLEMENTARY INFORMATION section of this document.

Docket: To read or download comments and materials submitted in response to this Federal Register notice, go to Docket No. OSHA-2007-0066 at http://www.regulations.gov or at the OSHA Docket Office at the above address. All comments and submissions are listed in the http://www.regulations.gov index; however, some information (e.g., copyrighted material) is not publicly available to read or download through that Web page. All comments and submissions, including copyrighted material, are available for inspection and copying at the OSHA Docket Office.

For information on accessing exhibits referenced in the Cranes and Derricks in Construction proposal, see the “Public Participation” heading in the SUPPLEMENTARY INFORMATION section of this document.

Electronic copies of this Federal Register document are available at http://www.regulations.gov. This document, as well as news releases and other relevant information, also are available at OSHA's Web page at http://www.osha.gov.

FOR FURTHER INFORMATION CONTACT: General information and press inquiries: Contact Ms. Jennifer Ashley, Office of Communications, Room N-3647, OSHA, U.S. Department of Labor, 200 Constitution Avenue, NW., Washington, DC 20210; telephone (202) 693-1999.

Technical inquiries: Contact Mr. Garvin Branch, Directorate of Construction, Room N-3468, OSHA, U.S. Department of Labor, 200 Constitution Avenue, NW., Washington, DC 20210; telephone (202) 693-2020 or fax (202) 693-1689.

SUPPLEMENTARY INFORMATION:

I. Extension of the Comment Period

On October 9, 2008, at 73 FR 59713, OSHA published a Notice of Proposed Rulemaking (NPRM) titled “Cranes and Derricks in Construction.” In this NPRM, OSHA announced a proposed rule for cranes and derricks in construction, provided an explanation of the rule and its economic analysis, and solicited comments from the public regarding various issues related to the safe operation of cranes and derricks. The period for submitting written comments was to expire on December 8, 2008. However, a significant number of stakeholders have requested an extension (ranging from 60-90 days) for submitting their written comments and information. Some of the stakeholders noted that the length of the Federal Register notice (over 200 pages), the number of specific requests for public comments included in the NPRM (estimated at 150), and the numerous reference materials related to the NPRM all require more time for review than initially provided. In addition to those reasons, stakeholders have noted that they have not previously had the opportunity to consider many of the issues about which OSHA requests public comments, and further note that the Preliminary Economic Analysis and Initial Regulatory Flexibility Analysis are complex, extensive, and will require a thorough and accurate assessment.

OSHA believes that a 45-day extension will be sufficient to accommodate these considerations, facilitate the submission of more thorough reviews, and provide OSHA with a complete record for this proposed rule that will improve the information available to OSHA in developing a final rule. Accordingly, OSHA is extending the comment period by 45 days, and written comments must now be submitted (sent or postmarked) by January 22, 2009.

II. Submission of Comments and Access to Comments

You may submit comments in response to this document: (1) Electronically at http://www.regulations.gov, which is the Federal eRulemaking Portal; (2) by facsimile (Fax); or (3) by hard copy. All comments, attachments, and other material must identify the Agency name and the OSHA docket number for this rulemaking (Docket No. OSHA-2007-0066). You may supplement electronic submissions by uploading document files electronically. If, instead, you prefer to mail additional materials in reference to an electronic or fax submission, you must submit three copies to the OSHA Docket Office (see ADDRESSES section of this notice). The additional materials must clearly identify your electronic comments by name, date, and docket number so OSHA can attach them to your comments.

Because of security-related procedures, the use of regular mail may cause a significant delay in the receipt of comments. For information about security procedures concerning the delivery of materials by hand, express delivery, messenger or courier service, please contact the OSHA Docket Office (see ADDRESSES section of this notice).

Comments and submissions in response to this Federal Register notice are posted without change at http://www.regulations.gov (Docket No. OSHA-2007-0066). Therefore, OSHA cautions commenters about submitting personal information such as social security numbers and dates of birth.

Although all submissions in response to this Federal Register notice, and all supporting materials cited in the Cranes and Derricks in Construction proposal, are listed in the http://www.regulations.gov and http://dockets.osha.gov indexes, some information (e.g., copyrighted material) is not publicly available to read or download from these Web pages. All submissions and supporting materials, including copyrighted material, are available for inspection and copying at the OSHA Docket Office.

Information on using the http://www.regulations.gov Web page to submit comments is available at the Web page's “User Tips” link. Contact the OSHA Docket Office for information about materials not available through the Web pages, and for assistance in using the Internet to locate docket submissions.

Electronic copies of this Federal Register document are available at http://www.regulations.gov. This document, news releases and other relevant information are available at OSHA's Web page at http://www.osha.gov.

Authority and Signature

This document was prepared under the authority of Thomas M. Stohler, Acting Assistant Secretary of Labor for Occupational Safety and Health, U.S. Department of Labor, 200 Constitution Avenue, NW., Washington, DC 20210, pursuant to sections 4, 6, and 8 of the OSH Act of 1970 (29 U.S.C. 653, 655, 657), Secretary of Labor's Order 5-2007 (72 FR 31159), and 29 CFR Part 1911.

Signed at Washington, DC, on November 25, 2008.
Thomas M. Stohler,
Acting Assistant Secretary of Labor for Occupational Safety and Health.

[FR Doc. E8-28608 Filed 12-1-08; 8:45 am]

BILLING CODE 4510-26-P